DEPARTMENT OF DEFENSE

Office of the Secretary

Meeting of the Secretary of Defense's Defense Advisory Board (DAB) for Employer Support of the Guard and Reserve (ESGR)

ACTION: Notice of open meeting.

SUMMARY: This notice announces a meeting of the DAB for ESGR. This meeting will focus on the status of DoD actions and recommendations from previous DAB meetings and relevant discussions on Reserve Affairs Recruiting and Review of DoD planning guidance for future mobilizations and Targeted Communications to Employers and is open to the public.

DATES: 0730-1530, June 6, 2006 (DAB meeting).

Location: Assistant Secretary of Defense for Reserve Affairs Conference Room 2E223, the Pentagon.

FOR FURTHER INFORMATION CONTACT: Interested attendee may contact LCDR Vic Lopez at 703-696-1386, x540, or e-mail at victor.lopez@osd.mil.

Dated: May 8, 1006.
C.R. Choate,
Alternate OSD Federal Register Liaison Officer, DoD.

[FR Doc. 06-4425 Filed 5-11-06; 8:45 am]

BILLING CODE 5001-06-M